DEPARTMENT OF HEALTH AND HUMAN SERVICES

National Institutes of Health

Government-Owned Inventions; Availability for Licensing

AGENCY: National Institutes of Health, Public Health Service, DHHS.

ACTION: Notice.

SUMMARY: The inventions listed below are owned by agencies of the U.S. Government and are available for licensing in the U.S. in accordance with 35 U.S.C. 207 to achieve expeditious commercialization of results of federally-funded research and development. Foreign patent applications are filed on selected inventions to extend market coverage for companies and may also be available for licensing.

ADDRESSES: Licensing information and copies of the U.S. patent applications listed below may be obtained by writing to the indicated licensing contact at the Office of Technology Transfer, National Institutes of Health, 6011 Executive Boulevard, Suite 325, Rockville, Maryland 20852-3804; telephone: 301/496-7057; fax: 301/402-0220. A signed Confidential Disclosure Agreement will be required to receive copies of the patent applications.

Methods for Treating Cancer in Humans Using IL-21

Patrick Hwu, M.D. and Gang Wang, Ph.D. (NCI)

U.S. Patent Application No. 60/368,438 filed on March 27, 2002

Licensing Contact: Jonathan Dixon; 301/496-7056 ext. 270; e-mail: dixonj@od.nih.gov

The present invention discloses the use of IL-21 for cancer therapy and/or cancer prevention. When compared to similar cytokines, IL-21 has shown substantial anticancer activity and reduced toxicity in murine models.

IL-21 belongs to the class I family of cytokines and is closely related to IL-2 and IL-15. Some cancer patients have shown significant response to administration of IL-2. However, IL-2 has also been associated with severe toxicity leading to a variety of undesirable side effects. This invention attempts to resolve the toxicity concerns and presents a new therapy for cancer prevention and treatment.

Amine Modified Random Primers for Microarray Detection

Charles Xiang and Michael J. Brownstein (NIMH)

DHHS Reference No. E-098-01/1 filed 11 Apr 2002

Licensing Contact: Cristina Thalhammer-Reyero; 301/496-7056 ext. 263; e-mail: thalhamc@od.nih.gov

The present invention relates to a new method for preparing fluorescence-labeled cDNA probes for DNA microarray studies, which only uses about 1/20th as much input RNA as the conventional methods require. The method allows making high quality probes from as little as 1 ug of total RNA without RNA or signal amplification. It is based on priming cDNA synthesis with random hexamers to the 5′ ends of which amino allyl modified bases have been added. Coupling of the fluorescent dye to the amine residues is performed after the cDNA is reverse transcribed. The method can be used in tandem with RNA amplification (and/or signal amplification) to label probes from 10 or fewer cells.

Furthermore, the invention also relates to a novel method to amplify RNA derived from single cells using T3-random 9mers and a new lysing method, which allow probe-labeling capabilities that are approaching the single cell level.

DNA Microarray technology has become one of the most important tools for high throughput studies in medical research with applications in the areas of gene discovery, gene expression and mapping. The suitability of DNA Microarray for profiling diseases and for identifying disease-related genes has also been also well documented. Companies like Affimatrix, Incyte and others have commercialized DNA microarrays, printed for a variety of applications. Most studies using DNA arrays involve preparation of fluorescent-labeled cDNA from the mRNA of the studied organism. The cDNA probes are then allowed to hybridize to the DNA fragments printed on the array, and the array is scanned and the data analyzed. Good results depend on a number of factors including high quality arrays and well-labeled probes. In order to achieve adequate sensitivity and reproducibility, probes have had to be prepared from rather large amounts of RNA using other methods.

Use of Lipoxygenase Inhibitors and PPAR Ligands as Anti-Cancer Therapeutic and Intervention Agents

James L. Mulshine (NCI) and Marti Jett

DHHS Reference No. E-069-01/0 filed 29 Jun 2001

Licensing Contact: Catherine Joyce; 301/496-7056 ext. 258; e-mail: joycec@od.nih.gov

This technology pertains to the use of inhibitors of the 5-lipoxygenase (5-LO) pathway for treating cancer. The use of 5-LO inhibitors for cancer growth inhibition has been previously described. The advancements in the technology that lead to the instant invention are the further characterization of the role of the 5-LO pathway in breast cancer growth as follows:

1. Growth stimulation of breast cancer cells with 5-HETE, a metabolite from the 5-LO pathway;

2. The upregulation of peroxisome proliferator-activated receptors, alpha and gamma (PPARα and PPARγ), in response to 5-LO inhibitors, and growth reduction of breast cancer cells with each of four PPAR ligands.

Therefore, the instant invention relates to a method of treating an epithelial derived cancer by administering an inhibitor to an enzyme that metabolizes arachidonic acid and a PPAR ligand, or derivative thereof.

The above-mentioned invention is available for licensing on an exclusive or non-exclusive basis.

Dated: July 11, 2002.
Jack Spiegel,
Director, Division of Technology Development and Transfer, Office of Technology Transfer, National Institutes of Health.

[FR Doc. 02-18511 Filed 7-22-02; 8:45 am]

BILLING CODE 4140-01-P